DEPARTMENT OF AGRICULTURE

Commodity Credit Corporation

Notice of Request for Extension of a Currently Approved Information Collection

AGENCY: Commodity Credit Corporation, USDA.

ACTION: Notice and request for comments.

SUMMARY: In accordance with the Paperwork Reduction Act of 1995, this notice announces the Commodity Credit Corporation's (CCC) intention to request an extension of a currently approved information collection in support of the CCC Export Credit Guarantee (GSM-102) Program based on current program levels and participants.

DATES: Comments on this notice must be received by November 24, 2023 to be assured consideration.

ADDRESSES: You may send comments by any of the following methods:

• Federal eRulemaking Portal: https://www/regulations.gov. This portal enables respondents to enter short comments or attach a file containing lengthier comments.

• Email: Juan.McCoy@usda.gov. Include OMB Control Number 0551-0004 in the subject line of the message.

• Mail, Courier, or Hand Delivery: Juan McCoy, U.S. Department of Agriculture, Foreign Agricultural Service, 1400 Independence Avenue SW, Room 5768, Washington, DC 20250.

Instructions: All submissions must be identified by the OMB Control Number 0551-0004 and include the name of the agency, the Foreign Agricultural Service.

FOR FURTHER INFORMATION CONTACT: Amy Slusher, 202 720-0775, Amy.Slusher@usda.gov.

SUPPLEMENTARY INFORMATION:

Title: CCC Export Credit Guarantee (GSM-102) Program.

OMB Number: 0551-0004.

Expiration Date of Approval: May 31, 2024.

Type of Request: Extension of a currently approved information collection.

Abstract: The primary objective of the GSM-102 program is to expand U.S. agricultural exports by making available export credit guarantees to encourage U.S. private sector financing of foreign purchases of U.S. agricultural commodities on credit terms. The CCC currently has programs operating in at least 144 countries and regions with 95 exporters eligible to participate. Under 7 CFR part 1493, exporters, foreign financial institutions, and U.S. financial institutions are required to submit information including the following, as applicable: (1) information about the exporter, foreign financial institutions, and U.S. financial institutions for program participation; (2) applications for payment guarantees; (3) notices of assignment; (4) repurchase agreements; (5) information regarding the actual export of the commodity (evidence of export report); (6) notice of default and claims for loss; and (7) appeals. In addition, each exporter and exporter's assignee (U.S. financial institution) must maintain records on all information submitted to CCC and in connection with sales made under the GSM-102 program. The information collected is used by CCC to manage, plan, evaluate, and account for government resources. The reports and records are required to ensure the proper and judicious use of public funds.

Estimate of Burden: The public reporting burden for these collections is estimated to average 0.278 hours per response.

Type of Respondents: U.S. exporters, U.S. financial institutions, and foreign financial institutions.

Estimated Number of Respondents: 47 per annum.

Estimated Number of Responses per Respondent: 86.5 per annum.

Estimated Total Annual Burden of Respondents: 1,130 hours.

Copies of this information collection may be obtained from Dacia Rogers, the Agency Information Collection Coordinator, at Dacia.Rogers@usda.gov.

Requests for Comments: Send comments regarding (a) whether the information is necessary for the proper performance of the functions of the agency, including whether the information will have practical utility; (b) the accuracy of the agency's estimate of the burden of the collection of information including validity of the methodology and assumption used; (c) ways to enhance the quality, utility, and clarity of the information to be collected; and (d) ways to minimize the burden of the collection of information on those who are to respond, including through the use of automated, electronic, mechanical, or other technological collection techniques, or other forms of information technology.

All comments received in response to this notice, including names and addresses when provided, will be a matter of public record. Comments will be available without change, including any personal information provided, for inspection online at https://www.regulations.gov and at the mail address listed above between 8 a.m. and 4:30 p.m., Monday through Friday, except holidays.

Comments will be summarized and included in the submission for OMB approval.

Persons with disabilities who require an alternative means for communication of information (Braille, large print, audiotape, etc.) should contact RARequest@usda.gov.

Daniel Whitley,
Administrator, Foreign Agricultural Service.

[FR Doc. 2023-20658 Filed 9-22-23; 8:45 am]

BILLING CODE 3410-10-P